DEPARTMENT OF THE INTERIOR

[FWS-R4-ES-2020-N162; FVHC98220410150-XXX-FF04H00000]

Florida Trustee Implementation Group Deepwater Horizon Oil Spill Draft Restoration Plan 2 and Environmental Assessment: Habitat Projects on Federally Managed Lands, Sea Turtles, Marine Mammals, Birds, and Provide and Enhance Recreational Opportunities

AGENCY: Department of the Interior.

ACTION: Notice of availability; request for public comments.

SUMMARY: In accordance with the Oil Pollution Act of 1990 (OPA); the National Environmental Policy Act of 1969 (NEPA); the Final Programmatic Damage Assessment Restoration Plan and Final Programmatic Environmental Impact Statement (Final PDARP/PEIS) and Record of Decision; and the Consent Decree, the Federal and State natural resource trustee agencies for the Florida Trustee Implementation Group (FL TIG) have prepared the Florida Trustee Implementation Group Draft Restoration Plan 2 and Environmental Assessment: Habitat Projects on Federally Managed Lands; Sea Turtles; Marine Mammals; Birds; and Provide and Enhance Recreational Opportunities (Draft RP/EA). In the Draft RP/EA, the FL TIG proposes projects to help restore injured habitats, sea turtles, marine mammals, birds, and to compensate for lost recreational use in the Florida Restoration Area as a result of the Deepwater Horizon (DWH) oil spill. The approximate cost to implement the FL TIG's proposed action (19 preferred alternatives) is $62,200,000. We invite public comments on the Draft RP/EA.

DATES: We will consider public comments on the Draft RP/EA received on or before Monday, March 29, 2021.

The FL TIG will host a public webinar on March 11, 2021 at 5 p.m. ET. The public webinar will include a presentation of the Draft RP/EA. The public may register for the webinar at https://attendee.gotowebinar.com/register/4537956480105991181. After registering, participants will receive a confirmation email with instructions for joining the webinar. Instructions for commenting will be provided during the webinar. Shortly after the webinar is concluded, the presentation material will be posted on the web at https://www.gulfspillrestoration.noaa.gov/restoration-areas/florida.

ADDRESSES: Obtaining Documents: You may download the Draft RP/EA from either of the following websites:

• https://www.doi.gov/deepwaterhorizon

• https://www.gulfspillrestoration.noaa.gov/restoration-areas/florida

Alternatively, you may request a CD of the Draft RP/EA (see FOR FURTHER INFORMATION CONTACT).

Submitting Comments: You may submit comments by one of the following methods:

• Via the Web: http://www.gulfspillrestoration.noaa.gov/restoration-areas/florida.

• Via U.S. Mail: U.S. Fish and Wildlife Service, P.O. Box 29649, Atlanta, GA 30345. To be considered, mailed comments must be postmarked on or before the comment deadline given in DATES.

• During the public webinar: Written comments may be provided by the public during the webinar. Webinar information is provided in DATES.

FOR FURTHER INFORMATION CONTACT: Nanciann Regalado at nanciann_regalado@fws.gov or 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the

U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Florida Restoration Area are chosen and managed by the FL TIG. The FL TIG is composed of the following Trustees: State of Florida Department of Environmental Protection and Fish and Wildlife Conservation Commission; DOI; NOAA; EPA; and USDA.

Background

On August 20, 2019, the FL TIG posted a public notice at http://www.gulfspillrestoration.noaa.gov requesting new or revised natural resource restoration project ideas by September 20, 2019, for the Florida Restoration Area. The notice stated that the FL TIG was seeking project ideas for the following restoration types: (1) Habitat Projects on Federally Managed Lands; (2) Sea Turtles; (3) Marine Mammals; (4) Birds; (5) Provide and Enhance Recreational Opportunities; and (6) Oysters. On July 29, 2020, the FL TIG announced that it had initiated drafting of the RP/EA and that it would include a reasonable range of restoration alternatives (projects) for five restoration types. The FL TIG decided not to include Oysters Restoration Type projects in the DRAFT RP/EA (see RP/EA for further details).

Overview of the FL TIG Draft RP/EA

The Draft RP/EA provides the FL TIG's analysis of the reasonable range of alternatives. The FL TIG's 19 preferred alternatives are presented in the following table under the restoration type from which funds would be allocated in accordance with the DWH Consent Decree. The FL TIG also evaluated five non-preferred alternatives in addition to the No Action alternative.

Restoration Type: Habitat Projects on Federally Managed Lands:
Johnson Beach Access Management and Habitat Protection.
Perdido Key Sediment Placement.
Pensacola Beach Fort Pickens Road Wildlife Lighting Retrofits.
Restoration Type: Sea Turtles:
Increased Observers and Outreach to Reduce Incidental Hooking of Sea Turtles in Recreational Fisheries along Florida's Gulf Coast.
Reducing Threats to Sea Turtles through Removal of In-water Marine Debris along Florida's Gulf Coast.
Assessing Risk and Conducting Public Outreach to Reduce Vessel Strikes on Sea Turtles along Florida's Gulf Coast.
Restoration Type: Marine Mammals:
Florida Gulf Coast Marine Mammal Stranding Network.
Restoration Type: Birds:
Gomez Key Oyster Reef Expansion and Breakwaters for American Oystercatchers.
Egmont Key Vegetation Management and Dune Retention.
Northeast Florida Coastal Predation Management.
Florida Shorebird and Seabird Stewardship and Habitat Management—5 Years.
Restoration Type: Provide and Enhance Recreational Opportunities:
Pensacola Community Maritime Park Public Fishing Marina.
Baars Park and Sanders Beach Kayak Fishing Trail Access Upgrades.
Engineering and Design for Pensacola Beach Park West Fishing Pier and Access Improvements.
Gulf Breeze Parks Boating and Fishing Access Upgrades.
Lincoln Park Boat Ramp and Dock Improvements.
Florida Artificial Reef Creation and Restoration—Phase 2.
Apollo Beach Recreational Sportfish Hatchery Facility.
Restoration Types: Habitat Projects on Federally Managed Lands and Provide and Enhance Recreational Opportunities:
St. Vincent National Wildlife Refuge Access and Recreational Improvements through Acquisition at Indian Pass.

Next Steps

As described above in DATES, the Trustees will host a public webinar to facilitate the public review and comment process. After the public comment period ends, the Trustees will consider and address the comments received before issuing a final RP/EA. Public comments and Trustee responses will be included in the final RP/EA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for DRAFT RP/EA can be viewed electronically at https://www.doi.gov/deepwaterhorizon/adminrecord.

Authority

The authority for this action is the Oil Pollution Act of 1990 (33 U.S.C. 2701 et seq.), its implementing NRDA regulations found at 15 CFR part 990, and the National Environmental Policy Act of 1969 (42 U.S.C. 4321 et seq.) and its implementing regulations found at 40 CFR 1500-1508.

Mary Josie Blanchard,
Department of the Interior, Director of Gulf of Mexico Restoration.

[FR Doc. 2021-03908 Filed 2-24-21; 8:45 am]

BILLING CODE 4333-15-P